DEPARTMENT OF ENERGY

Federal Energy Regulatory Commission

[Docket No. AD20-17-000]

Impacts of COVID-19 on the Energy Industry; Notice Inviting Post-Technical Conference Comments

On July 8 and 9, 2020, the Federal Energy Regulatory Commission convened a Commissioner-led technical conference to discuss the ongoing, serious impacts that the emergency conditions caused by COVID-19 are having on various segments of the United States' energy industry. During the conference, the Commission explored the potential longer-term impacts on the entities that it regulates in order to ensure the continued efficient functioning of energy markets, transmission of electricity, transportation of natural gas and oil, and reliable operation of energy infrastructure today and in the future, while also protecting consumers.

All interested persons are invited to file post-technical conference comments on any or all of the topics discussed at the July 8-9 technical conference. Commenters may also respond to the questions outlined in the July 1, 2020 supplemental notice of technical conference.¹ Commenters need not answer all of the questions included in the July 1, 2020 notice, but, to the extent that commenters respond to any of these questions, please utilize the question numbering included in that notice. Comments must be submitted on or before 45 days from the date of this notice.

¹ See Supplemental Notice of Technical Conference, Docket No. AD20-17-000 (July 1, 2020).

For more information about this notice, please contact:

Aileen Roder (Technical Information), Office of Energy Policy and Innovation, (202) 502-6735, aileen.roder@ferc.gov

Zeny Magos (Technical Information), Office of Energy Market Regulation, (202) 502-8244, zeny.magos@ferc.gov

Dated: July 16, 2020.
Nathaniel J. Davis, Sr.,
Deputy Secretary.

[FR Doc. 2020-15867 Filed 7-21-20; 8:45 am]

BILLING CODE 6717-01-P